NUCLEAR REGULATORY COMMISSION

NUREG-1792, Good Practices for Implementing Human Reliability Analysis (HRA), Draft Report for Comment

AGENCY: Nuclear Regulatory Commission (NRC).

ACTION: Notice of availability of Draft NUREG-1792 “Good Practices for Implementing Human Reliability Analysis (HRA) for comment, and notice of public meeting.

SUMMARY: The Nuclear Regulatory Commission is announcing the availability of and is seeking comments on NUREG-1792, “Good Practices for Implementing Human Reliability Analysis (HRA), Draft Report for Public Comment.”

DATES: Comments on this document should be submitted by October 4, 2004. Comments received after that date will be considered to the extent practicable. To ensure efficient and complete comment resolution, comments should include references to the section, page, and line numbers of the document to which the comment applies, if possible.

ADDRESSES: Members of the public are invited and encouraged to submit written comments to Michael Lesar, Chief, Rules and Directives Branch, Office of Administration, Mail Stop T6-D59, U.S. Nuclear Regulatory Commission, Washington, DC 20555-0001. Hand-deliver comments attention to Michael Lesar, 11545 Rockville Pike, Rockville, MD, between 7:30 a.m. and 4:15 p.m. on Federal workdays. Comments may also be sent electronically to NRCREP@nrc.gov.

This document is available at the Agencywide Documents Access and Management System (ADAMS) Public Electronic Reading Room on the Internet at the NRC Web site at http://www.nrc.gov/reading-rm/adams.html under Accession No. ML041980358; on the NRC Web site at http://www.nrc.gov/reading-rm/doc-collections/nuregs/docs4comment; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION, CONTACT: Erasmia Lois, Probability Risk Assessment Branch, Office of Nuclear Regulatory Research, telephone (301) 415-6560, e-mail exl1@nrc.gov, or Susan Cooper, Probability Risk Assessment Branch, Office of Nuclear Regulatory Research, telephone (301) 415-5183 or (302) 234-4423, e-mail sec1@nrc.gov.

SUPPLEMENTARY INFORMATION:

NUREG-1792, “Good Practices for Implementing Human Reliability Analysis (HRA), Draft Report for Comment”

The purpose of Good Practices for Implementing Human Reliability Analysis (HRA) Draft Report for Comment is to provide guidance for performing HRA and reviewing HRAs to assess the quality of analyses. This report supports the NRC's activities for addressing probabilistic risk assessment (PRA) quality issues and supports the implementation of Regulatory Guide (RG) 1.200, “An Approach for Determining the Technical Adequacy of Probabilistic Risk Assessment Results For Risk-Informed Activities.”

The HRA good practices described in NUREG-1792 are generic; that is, they are not tied to any specific methods or tools that could be used for doing HRAs. The document provides guidance for implementing the RG 1.200 when performing a Level 1 and a limited Level 2 PRA for internal events (excluding fire) with the reactor at full power. The good practices are directly linked to RG 1.200, which reflects and endorses, with certain clarifications and substitutions, the American Society of Mechanical Engineers (ASME) standard RA-Sa-2003, “Addenda to ASME Standard for Probabilistic Risk Assessment for Nuclear Power Plant Applications,” and Revision A3 of the Nuclear Energy Institute (NEI) document “Probabilistic Risk (PRA) Peer Review Process Guidance” (NEI-00-02).

The NRC will hold a public meeting on August 16, 2004, at the NRC headquarters, 11545 Rockville Pike, Rockville, Maryland, Room T-10A1 (8:30 am—5 pm, preliminary agenda attached). The purpose of the meeting is to present and discuss the HRA good practices and to allow stakeholders to address issues needing clarification. The NRC is not soliciting comments on the draft NUREG as part of this meeting. Public comments on the draft NUREG can be provided as discussed above.

The NRC is seeking public comment in order to receive feedback from the widest range of interested parties and to ensure that all information relevant to developing this document is available to the NRC staff. This document is issued for comment only and is not intended for interim use. The NRC will review public comments received on the document, incorporate suggested changes as necessary, and issue the final NUREG-1792 for use.

Dated at Rockville, MD, this 28th day of July 2004.
For the Nuclear Regulatory Commission.
Charles Ader,
Director, Division of Risk Analysis and Applications, Office of Nuclear Regulatory Research.

Attachment

Public Meeting on NUREG-1792: “Good Practices for Implementing Human Reliability Analysis (HRA), Draft Report for Comment”

U.S. NRC Headquarters, 11555 Rockville Pike, Rockville, MD 20852, Room T-10A1 August 16, 2004

Preliminary Agenda

Time and Topic

9 to 9:15 a.m.—Introduction and Overview of HRA Good Practices

9:15 to 9:30 a.m.—General HRA Good Practices

9:30 to 10:30 a.m.—Post-Initiator Human Events

10:30 a.m.—to 10:45 a.m.—BREAK

10:45 a.m.—to 11:45 a.m.—Post-Initiator Human Events (continued)

11:45 to 1 p.m.—LUNCH

1 to 2:45 p.m.—Pre-Initiator Human Events

2:45 to 3 p.m.—BREAK

3 to 3:45 p.m.—Errors of Commission

3:45 to 4:30 p.m.—HRA Documentation

4:30 to 5 p.m.—Wrap-up

[FR Doc. 04-17707 Filed 8-3-04; 8:45 am]

BILLING CODE 7590-01-P